COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

Comments Must Be Received on or Before: March 14, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions.

If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to Procurement List for production by the nonprofit agencies listed:

Products

Product/NSN: Box, Shipping, Fiberboard,

8115-01-015-1312—Type III, Style G, FTC, 30″ x 27″ x 14″.

8115-01-015-1315—Type III, Style G, FTC, 24″ x 18″ x 16″.

8115-01-094-6520—Type II, Style G, FTC, 32″ x 18″ x 16″.

NPA: Tarrant County Association for the Blind, Fort Worth, Texas.

Contract Activity: Office Supplies & Paper Products Acquisition Center, New York, New York.

Product/NSN: Dual Action Dish Wand with Brush and Refill,

M.R. 586 (Brush).

M.R. 587 (Refill).

NPA: L.C. Industries For The Blind, Inc., Durham, North Carolina.

Contract Activity: Defense Commissary Agency (DeCA), Ft. Lee, Virginia.

Product/NSN: Jumbo Butterfly Mop Refill,

M.R. 1025.

NPA: L.C. Industries For The Blind, Inc., Durham, North Carolina.

Contract Activity: Defense Commissary Agency (DeCA), Ft. Lee, Virginia.

Product/NSN: ReFresh Air Freshener,

6840-01-359-9207—Country Garden Potpourri,

6840-01-359-9208—Cinnamon,

6840-01-359-9209—Springtime Floral.

NPA: Lighthouse for the Blind, St. Louis, Missouri.

Contract Activity: Office Supplies & Paper Products Acquisition Center, New York, New York.

Product/NSN: STRAC Pack,

7510-00-NIB-0679.

NPA: Central Association for the Blind & Visually Impaired, Utica, New York.

Contract Activity: Office Supplies & Paper Products Acquisition Center, New York, New York.

Services

Service Type/Location: Custodial Services,

Federal Building, U.S. Post Office and Courthouse, 300 E. 3rd Street, North Platte, Nebraska.

NPA: Goodwill Employment Services of Central Nebraska, Inc., Grand Island, Nebraska.

Contract Activity: GSA, Public Buildings Service (Region 6), Kansas City, Missouri.

Service Type/Location: Food Service Attendant,

Elmendorf Air Force Base, Alaska.

NPA: M. C. Resources Management, Anchorage, Alaska.

Contract Activity: AF-Elmendorf, Elmendorf AFB, Alaska.

Service Type/Location: Grounds Maintenance,

Pueblo Chemical Depot, Installation Acreage, Pueblo, Colorado.

NPA: Pueblo Diversified Industries, Inc., Pueblo, Colorado.

Contract Activity: U.S. Army, Rocky Mountain Arsenal, Commerce City, Colorado.

Sheryl D. Kennerly,
Director, Information Management.

[FR Doc. 04-3259 Filed 2-12-04; 8:45 am]

BILLING CODE 6353-01-P